DEPARTMENT OF TRANSPORTATION

[DOT-OST-2024-0010]

U.S. Coast Guard Loran Sites

AGENCY: Office of the Assistant Secretary for Research and Technology (OST-R), U.S. Department of Transportation (DOT).

ACTION: Notification.

SUMMARY: The U.S. Department of Transportation (DOT) is issuing this Notification to the U.S. Coast Guard (USCG) that neither DOT, nor the U.S. Department of Defense (DoD), are seeking transfer of the Loran properties from the USCG. This notification is being given based on the fact there was no identification of a need for the USCG Loran properties in response to the DOT Request for Information (RFI) on a Commercial enhanced Long Range Navigation (eLoran) Capability, DOT-OST-2023-0118.

DATES: Responses should be filed by May 21, 2024. All questions concerning this Notification shall be emailed to PNT_RFI@dot.gov. When submitting questions and comments, please refer to the specific relevant text of this Notification. Each question submitted to DOT should be stated in such a way that there would be no objection to DOT's publishing that precise question (and its answer) in a formal Amendment to the Notification. That is, each question should be worded in such a way that the publication of that question (and its answer) would not divulge any information that would be considered proprietary or confidential. Further, any questions concerning any apparent error, omission, or ambiguity in this Notification shall include the questioner's supporting rationale as well as a description of the remedies that the questioner is asking DOT to consider. All questions that DOT decides to answer will be collectively answered in writing.

ADDRESSES: You may file responses identified by the docket number DOT-OST-2024-0010 by any of the following methods:

• Federal Rulemaking Portal: go to http://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

Instructions: You must include the agency name and docket number DOT-OST-2024-0010 at the beginning of your submission. All submissions received will be posted without change to http://www.regulations.gov, including any personal information provided, unless proprietary and other sensitive information is so marked with requested disposition instructions. Any submissions with Confidential/Propriety information should be labeled as such in the title of the submission.

Privacy Act: Anyone is able to search the electronic form of all submissions received in any of our dockets by the name of the individual submitting the document (or signing the submission, if submitted on behalf of an association, business, labor union, etc.). You may review DOT's complete Privacy Act statement in the Federal Register published on April 11, 2000 (65 FR 19477-78), or you may visit https://www.transportation.gov/individuals/privacy/dot-privacy-policy.

Docket: For access to the docket and comments received, go to http://www.regulations.gov or to the street address listed above. Follow the online instructions for accessing the docket.

SUPPLEMENTARY INFORMATION:

1. Overview

On October 3, 2023, DOT issued a Commercial eLoran Capability RFI, DOT-OST-2023-0118 (88 FR 68283), to determine:

(1) If there is interest from private entities in offering a U.S. commercial eLoran service to the general public in the United States on a fee-for-service basis without any Federal investment, subsidy, procurement commitment or other commitment of credit or budgetary resources.

(2) If respondent has an interest in offering a U.S.-based commercial eLoran service on a fee-for-service basis, identify what impediments stand in the way of respondent offering a U.S. commercial eLoran service. If lack of access to any federally-controlled assets and non-budgetary assistance related to utilizing such federally-controlled assets are identified as impediments to offering such a service, a subsequent Request for Information may be issued to obtain additional data.

This RFI was issued specifically to inform USCG divestiture of their legacy Loran sites, as required by section 11211 of the FY 2023 National Defense Authorization Act (NDAA; 14 U.S.C. 914). Per the FY 2023 NDAA, if DOT or DoD expresses interest in obtaining any of the Loran-C properties, the properties will be transferred from USCG to DOT. No respondents to the RFI identified a need for the USCG Loran properties to provide a commercial eLoran capability in the United States. Therefore, neither DOT, nor DoD, are seeking transfer of the Loran properties from the USCG.

Issued this day of February 15, 2024, in Washington, DC.
Robert C. Hampshire,
Deputy Assistant Secretary for Research and Technology, U.S. Department of Transportation.

[FR Doc. 2024-03495 Filed 2-20-24; 8:45 am]

BILLING CODE 4910-9X-P